FEDERAL COMMUNICATIONS COMMISSION

47 CFR Part 73

[DA 00-586; MM Docket No. 99-212; RM-9640]

Radio Broadcasting Services; Amelia, LA

AGENCY: Federal Communications Commission.

ACTION: Proposed rule; denial.

SUMMARY: This document denies a petition for rule making filed by Mountain West Broadcasting proposing the allotment of FM Channel 249C3 to Amelia, Louisiana, as that locality's first local aural transmission service. Petitioner failed to establish the availability of a suitable location for tower construction as the required site restriction located 18.4 kilometers south of the community at coordinates 29-30-21 NL and 91-03-46 WL to accommodate Channel 249C3 at Amelia is in marshland. See 64 FR 31173, June 10, 1999. With this action, this proceeding is terminated.

ADDRESSES: Federal Communications Commission, Washington, DC 20554.

FOR FURTHER INFORMATION CONTACT: Nancy Joyner, Mass Media Bureau, (202) 418-2180.

SUPPLEMENTARY INFORMATION: This is a synopsis of the Commission's Report and Order, MM Docket No. 99-212, adopted March 8, 2000, and released March 17, 2000. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

Federal Communications Commission.
John A. Karousos,
Chief, Allocations Branch, Policy and Rules Division, Mass Media Bureau.

[FR Doc. 00-7828 Filed 3-30-00; 8:45 am]

BILLING CODE 6712-01-P